FEDERAL COMMUNICATIONS COMMISSION

Open Commission Meeting, Friday, April 12, 2019

April 5, 2019.

The Federal Communications Commission will hold an Open Meeting on the subjects listed below on Friday, April 12, 2019 which is scheduled to commence at 10:30 a.m. in Room TW-C305, at 445 12th Street SW, Washington, DC.

Item No. | Bureau | Subject
1 | Office of Economics & Analytics | Title: Comment Sought on Competitive Bidding Procedures for Auction 103 (AU Docket 19-59). Summary: The Commission will consider a Public Notice seeking comment on procedures for the incentive auction of Upper Microwave Flexible Use Licenses in the Upper 37 GHz, 39 GHz, and 47 GHz Bands (Auction 103) for Next Generation Wireless Services.
2 | Wireless Tele-Communication | Title: Use of Spectrum Bands Above 24 GHz For Mobile Radio Services (GN Docket No. 14-177). Summary: The Commission will consider a Report and Order that would allow Fixed-Satellite Service earth stations to be individually licensed to transmit in the 50 GHz band and would establish a process for the Department of Defense to operate on a shared basis in the Upper 37 GHz band in limited circumstances.
3 | Wireless Tele-Communication | Title: Updating the Commission's Rule for Over-the-Air-Reception Devices (WT Docket No. 19-71). Summary: The Commission will consider a Notice of Proposed Rulemaking that proposes to modernize the Commission's rule for over-the-air-reception devices (OTARD) to facilitate the deployment of modern fixed wireless infrastructure.
4 | Media | Title: Channel Lineup Requirements—Sections 76.1705 and 76.1700(a)(4) (MB Docket No. 18-92); Modernization of Media Regulation Initiative (MB Docket No. 17-105).
|  | Summary: The Commission will consider a Report and Order that would eliminate the requirement that cable operators maintain a channel lineup at their local office and would eliminate the requirement that certain cable operators make their channel lineup available via their online public inspection file.
5 | Wireline Competition | Title: Petition of USTelecom for Forbearance Pursuant to 47 U.S.C. § 160(c) to Accelerate Investment in Broadband and Next-Generation Networks (WC Docket No. 18-141); 2000 Biennial Regulatory Review Separate Affiliate Requirements of Section 64.1903 of the Commission's Rules (CC Docket No. 00-175).
|  | Summary: The Commission will consider a Memorandum Opinion and Order that would grant forbearance to Bell Operating Companies and independent incumbent carriers from certain unnecessary and outdated structural and nondiscrimination requirements.
6 | Wireline Competition | Title: Connect America Fund (WC Docket No. 10-90).
|  | Summary: The Commission will consider a Report and Order that would eliminate the high-cost program's rate floor rule and end the federal mandate that raises the telephone rates paid by many rural Americans.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Katura Jackson,
Federal Register Liaison Officer, Office of the Secretary.

[FR Doc. 2019-07453 Filed 4-12-19; 8:45 am]

BILLING CODE 6712-01-P